DEPARTMENT OF THE INTERIOR

Bureau of Land Management

[15X.LLID9570000.L14400000.BJ0000.241A.4500075726]

Filing of Plats of Survey; Idaho

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: This survey were executed at the request of the Bureau of Land Management to meet their administrative needs. The lands surveyed are:

The supplemental plat was prepared to show new tracts 38-46, in unsurveyed section 11, T. 48 N., R. 2 E., Boise Meridian, Idaho, Group Number 1411, was accepted December 29, 2014.

This survey was executed at the request of the USDA Natural Resources Conservation Service to meet their administrative needs. The lands surveyed are:

The plat represents the dependent resurvey of a portion of the subdivisional lines, and the subdivision of sections 9, 15, 16, 22, 23, and 26, and metes-and-bounds surveys in sections 9, 16, and 26, Township 4 North, Range 25 East, Boise Meridian, Idaho, Group Number 1395, was accepted November 25, 2014.

These surveys were executed at the request of the Bureau of Indian Affairs to meet certain administrative and management purposes. The lands surveyed are:

The plat representing the dependent resurvey of portions of the north boundary, subdivisional lines, and the subdivision of sections 2 and 3, and a survey of the 2012-2013 meanders of the full-pool line of the Portneuf Reservoir in section 2 and 3, Township 6 South, Range 38 East, of the Boise Meridian, Idaho, Group Number 1383, was accepted November 19, 2014.

The plat representing the dependent resurvey of portions of the north boundary, subdivisional lines, and subdivision of section 4, Township 32 North, Range 1 East, of the Boise Meridian, Idaho, Group Number 1401, was accepted December 10, 2014.

Stanley G. French,
Chief Cadastral Surveyor for Idaho.

[FR Doc. 2015-00415 Filed 1-13-15; 8:45 am]

BILLING CODE 4310-GG-P